DEPARTMENT OF AGRICULTURE

Forest Service

Tongue Allotment Management Planning on the Tongue Ranger District, Bighorn National Forest, Sheridan County, WY

AGENCY: Forest Service, USDA.

ACTION: Notice of Intent to prepare an environmental impact statement.

SUMMARY: The USDA, Forest Service, will prepare an environmental impact statement (EIS) to update range management planning on twenty-three livestock grazing allotments (currently managed as seventeen allotments) which will result in development of new allotment management plans (AMPs). There are twelve cattle and horse allotments and eleven sheep and goat allotments. The cattle and horse allotments are Amsden, Copper Creek/Upper Dry Fork, Freezeout, Little Tongue, Lower Tongue, Nickelmine, Pass Creek, Prospect/Cedar, Upper Tongue and Wolf Creek. The sheep and goat allotments are Bull Creek/Bruce Mountain/Woodrock, Fishhook, Fool Creek, Lookout Mountain, Owen Creek, Pole Creek, Spring and Wallrock/Hidden Tepee. The allotments are located approximately 50 miles, by road, northwest of Sheridan, Wyoming in the Tongue River drainage. National Forest System lands within the Bighorn National Forest will be considered in the proposal. Management actions are planned to be implemented beginning in the year 2003. The agency gives notice of the full environmental analysis and decision-making process that will occur on the proposal so that interested and affected people may become aware of how they may participate in the process and contribute to the final decision.

DATES: Comments concerning the scope of the analysis should be received in writing by July 15, 2002, or thirty days from publication of this notice. Scoping comments previously submitted for this project do not need to be submitted again.

ADDRESSES: Send written comments and suggestions concerning this proposal to Craig Yancey, District Ranger, Tongue Ranger District, Bighorn National Forest, 2013 Eastside 2nd Street, Sheridan, Wyoming 82801.

FOR FURTHER INFORMATION CONTACT: Direct questions about the proposed action and EIS to David Beard, Interdisciplinary Team Leader, Bighorn National Forest, Tongue Ranger District, 2013 Eastside 2nd Street, phone (307) 674-2600.

SUPPLEMENTARY INFORMATION: The purpose of the analysis is to determine if livestock grazing will continue on the analysis area. If the decision is to continue livestock grazing, then updated management strategies outlining how livestock will be grazed and at what levels will be developed to assure implementation of Forest Plan management direction. The analysis will consider actions that continue to improve trends in vegetation, watershed conditions, and ecological sustainability relative to livestock grazing within the twenty-three allotments. The allotments are located within the Tongue watershed on the Tongue and Medicine Wheel/Paintrock districts on the Bighorn National Forest.

The action is needed to develop new AMPs which incorporate results of recent scientific research and analysis at the watershed level.

The Bighorn National Forest Land and Resource Management Plan (Forest Plan), as amended, identifies livestock grazing as an appropriate use and identifies lands capable and suitable for domestic livestock.

The Forest planning process allocated specific management direction across the Bighorn National Forest. Within the area encompassed by the twenty-three allotments, management areas include 1.11 (wilderness), 2A (semi-primitive motorized recreation), 2B (rural and roaded natural recreation), 3A (semi-primitive nonmotorized recreation), 3B (primitive recreation), 4B (wildlife), 4D (aspen), 5B (winter range), 6A (livestock forage improvement, 6B, (livestock grazing), 7E (timber), 9A (riparian areas), 9B (water yield) and 10D (wild and scenic rivers).

The twenty-three allotments encompass approximately 172,000 acres of National Forest System Lands and 2,500 acres of Non Forest Service lands. Important riparian areas occur in several of the allotments including Copper Creek, Freezeout, Little Tongue, Lower Tongue, Pass Creek, Upper Tongue, Prospect/Cedar, Nickelmine, Pole Creek, Fishhook/Fool Creek and Bull Creek/Bruce Mountain/Woodrock. The management of riparian areas to protect them from livestock is of key concern. Some exclusive have been built in riparian areas to protect resources from these impacts.

Potential focal/MIS species include amphibians such as the wood frog and spotted frog that inhabit wetland areas, particularly near Woodrock. An additional potential focal species is the watervole that inhabits riparian areas on several allotments.

Approximately thirty miles of the Tongue River are in the Forest Plan as a wild and scenic management area. The Upper North Tongue River is a fourteen-mile long stretch of stream that is a very popular fishery in the northern part of the forest. There are numerous heritage resources in the planning area including several prehistoric sites and the historical Woodrock Tie Hack District. The Wyoming Department of Game and Fish has rated the Tongue River within the canyon as a Blue Ribbon Stream—a fishery of national importance. Fish species within the planning area include native populations of brook trout, brown trout, rainbow trout, Yellowstone Cutthroat trout and Snake River Cutthroat trout.

Preliminary issues include: (1) The effects of livestock grazing on riparian conditions (including water quality, water temperature and stream bank stability); (2) effects of livestock grazing on fisheries and wildlife habitat, including big game winter range; (3) the effects of no grazing or reduced grazing on the local economy; (4) management of livestock near developed campgrounds and in areas heavily used for dispersed recreation; and (5) the effects of livestock grazing on TES species.

A detailed public involvement plan has been developed, and an interdisciplinary team has been selected to do the environmental analysis, prepare and accomplish scoping and public involvement activities.

Consultation with the U.S. Fish and Wildlife Service, as required by the Endangered Species Act (ESA), will be completed on all proposed activities.

Public involvement is especially important at several points during the analysis, beginning with the scoping process. The Forest Service will be consulting with Indian Tribes and seeking information, comments, and assistance from Federal, State, local agencies, tribes, and other individuals or organizations who may be interested in or affected by the proposals. The scoping process includes:

1. Identifying issues including key issues to be analyzed in depth.

2. Developing alternatives based on themes which will be derived from issues recognized during scoping activities.

3. Identifying potential environmental effects of the proposals and alternatives (i.e., direct, indirect, and cumulative effects and connected actions).

4. Developing a list of interested people to keep apprised of opportunities to participate through meetings, personal contacts, or written comments.

Public comments are appreciated throughout the analysis process. The draft EIS is expected to be filed with the Environmental Protection Agency (EPA) and be available for public review by February 2003. The comment period on the draft EIS will be 45 days from the date the EPA publishes the notice of availability in the Federal Register. The final EIS is scheduled to be available June 2003.

The Forest Service believes it is important to give reviewers notice of this early stage of public participation and of several court rulings related to public participation in the environmental review process. First, reviewers of a draft EIS must structure their participation in the environment review of the proposal so it is meaningful and alerts an agency to the reviewer's position and contentions. Vermont Yankee Nuclear Power Corp. v. NRDC, 435 U.S. 519, 553 (1978). Environmental objections that could have been raised at the draft stage may be waived or dismissed by the court if not raised until after completion of the final EIS. City of Angoon v. Hodel, 803 f.2d 1016, 1022 (9th Cir, 1986) and Wisconsin Heritages, Inc. v. Harris, 490 F. Supp. 1334, 1338 (E.D. Wis. 1980). Because of these court rulings, it is very important that those interested in this proposed action participate by the close of the 45-day comment period so substantive comments and objections are made available to the Forest Service at a time when it can meaningfully consider and respond to them in the final EIS.

Comments on the draft EIS should be as specific as possible. It is also helpful if comments refer to specific pages or chapters of the draft statement. Comments may also address the adequacy of the draft EIS or the merits of the alternatives formulated and discussed in the statement. (Reviewers may wish to refer to the Council on Environmental Quality Regulations for implementing the procedural provisions of the National Environmental Policy Act at 40 CFR 1503.3 in addressing these points.)

In the final EIS, the Forest Service is required to respond to substantive comments and responses received during the comment period that pertain to the environmental consequences discussed in the draft EIS and applicable laws, regulations, and policies considered in making a decision regarding the proposal. The Responsible Officials on the Bighorn National Forest are Craig Yancey, Tongue District Ranger and Dave Myers, Medicine Wheel/Paintrock District Ranger. The Responsible Officials will document the decision and rationale for the decision in the Record of Decision. That decision will be subject to appeal under 36 CFR part 215.

Dated: May 28, 2002.
Craig L. Yancey,
Tongue District Ranger.
Dated: May 31, 2002.
Dave Myers,
Medicine Wheel/Paintrock District Ranger.

[FR Doc. 02-14853 Filed 6-12-02; 8:45 am]

BILLING CODE 3410-FN-M